COMMITTEE FOR PURCHASE FROM PEOPLE WHO ARE BLIND OR SEVERELY DISABLED

Procurement List Additions and Deletion

AGENCY: Committee for Purchase from People Who Are Blind or Severely Disabled.

ACTION: Additions to and Deletion from Procurement List.

SUMMARY: This action adds to the Procurement List products and services to be furnished by nonprofit agencies employing persons who are blind or have other severe disabilities, and to delete from the Procurement List a service previously furnished by such agencies.

DATES: Effective Date: June 6, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly (703) 603-7740.

SUPPLEMENTARY INFORMATION:

Additions

On March 12, 2004, the Committee for Purchase From People Who Are Blind or Severely Disabled published notices (69 FR 11833) of proposed additions to the Procurement List. After consideration of the material presented to it concerning capability of qualified nonprofit agencies to provide the products and services and impact of the additions and deletion on the current or most recent contractors, the Committee has determined that the products and services listed below are suitable for procurement by the Federal Government under 41 U.S.C. 46-48c and CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for additions and deletion to the Procurement List.

End of Certification

Accordingly, the following products and services are added to the Procurement List:

Products

Product/NSN: Paper, Toilet Tissue (Camp French, CA Depot), 8540-00-530-3770, 8540-01-380-0690.

NPA: Outlook-Nebraska, Incorporated, Fremont, Nebraska.

Contract Activity: Office Supplies & Paper Products Acquisition Center, New York, New York.

Services

Service Type/Location: Custodial Services, Air National Guard Base—Reserve Buildings (Bldgs 300, 304, 315, 320, 310, 360, 365, 355, 373, 375, 380, 494, 485, 491, 370), Portland, Oregon.

NPA: The Port City Development Center, Portland, Oregon.

Contract Activity: AF-Portland, Portland IAP, Oregon.

Service Type/Location: Janitorial/Custodial, Navy Exchange Buildings, Newport, Rhode Island; Fort Adams, Building 402, Greenelane/Mini Mart Building 1283, Main Store and Barbershop, Building 1250,Package Store, Building 1901, Service Station/Home Mart, Building 1285, Uniform Shop/Tailor Shop, Building 1903.

NPA: CranstonArc, Cranston, Rhode Island.

Contract Activity: Navy Exchange Service Command (NEXCOM), Virginia Beach, Virginia.

Deletion

On March 19, 2004, the Committee for Purchase From People Who Are Blind or Severely Disabled published notice (69 F.R.13019) of a proposed deletion to the Procurement List. After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Janitorial/Custodial, Social Security Administration Building, Rock Island, Illinois.

NPA: Alliance for the Mentally Ill of Rock Island and Mercer Counties, Rock Island, Illinois.

Contract Activity: General Services Administration (5P) Public Buildings, Chicago, Illinois.

Sheryl D. Kennerly,
Director, Information Management.

[FR Doc. 04-10489 Filed 5-6-04; 8:45 am]

BILLING CODE 6353-01-P